NUCLEAR REGULATORY COMMISSION

[Docket No. 50-073; NRC-2023-0051]

GE-Hitachi Nuclear Energy Americas, LLC; Nuclear Test Reactor; Correction

AGENCY: Nuclear Regulatory Commission.

ACTION: Environmental assessment and finding of no significant impact; issuance; correction.

SUMMARY: The U.S. Nuclear Regulatory Commission (NRC) is correcting a notice that was published in the Federal Register on March 22, 2023, regarding an environmental assessment and finding of no significant impact for the consideration of renewal of Facility License No. R-33, held by the GE-Hitachi Nuclear Energy Americas, LLC, for the continued operation of the Nuclear Test Reactor. This action is necessary to correct the radioactivity concentration units used.

DATES: June 1, 2023.

ADDRESSES: Please refer to Docket ID NRC-2023-0051 when contacting the NRC about the availability of information regarding this document. You may obtain publicly available information related to this document using any of the following methods:

• Federal Rulemaking website: Go to https://www.regulations.gov and search for Docket ID NRC-2023-0051. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

FOR FURTHER INFORMATION CONTACT: Duane Hardesty, Office of Nuclear Reactor Regulation, U.S. Nuclear Regulatory Commission, Washington, DC 20555-0001, telephone: 301-415-3724; email: Duane.Hardesty@nrc.gov.

SUPPLEMENTARY INFORMATION: In the Federal Register (FR) on March 22, 2023, in FR Doc. 2023-05876, on page 17278, in the first column, third line from the bottom of the first full paragraph, “4.73 Ci/L, gross beta at 1.6 pCi/L” is corrected to read “4.73 picoCuries/gram (pCi/g), gross beta at 1.6 pCi/g.”

Dated: May 25, 2023.
For the Nuclear Regulatory Commission.
Joshua M. Borromeo,
Chief, Non-Power Production and Utilization Facility Licensing Branch, Division of Advanced Reactors and Non-Power Production and Utilization Facilities, Office of Nuclear Reactor Regulation.

[FR Doc. 2023-11599 Filed 5-31-23; 8:45 am]

BILLING CODE 7590-01-P